DEPARTMENT OF COMMERCE

U.S. Bureau of the Census

Proposed Information Collection; Comment Request; Generic Clearance for Internet Nonprobability Panel Pretesting

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before August 23, 2013.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instruments(s) and instructions should be directed to Jennifer Hunter Childs, U.S. Census Bureau, 4600 Silver Hill Road, Washington, DC 20233-9150, (202) 603-4827 (or via the Internet at jennifer.hunter.childs@census.gov).

SUPPLEMENTARY INFORMATION:

I. Abstract

The Census Bureau plans to request a new OMB generic clearance to conduct a variety of medium-scale iterative Internet research pretesting activities. A block of hours will be dedicated to these activities for each of the next three years. OMB will be informed in writing of the purpose and scope of each of these activities, as well as the time frame and number of burden hours used. The number of hours used will not exceed the number set aside for this purpose.

The Census Bureau is committed to conducting research in a cost efficient manner. Currently, there are several stages of testing that occur in any research project the U.S. Census Bureau conducts. As a first stage of research, the Census Bureau pretests questions on surveys or censuses and evaluates the usability and ease of use of Web sites using a small number of subjects during focus groups, usability and cognitive testing. These projects are in-person and labor intensive, but typically only target samples of 20 to 30 respondents. Often the second stage is a larger scale field test with a split panel design of a survey or a release of a Census Bureau data dissemination product with a feedback mechanism. These stages often involve a lot of preparatory work and often are limited in the number of panels tested due to the cost considerations. They are often targeted at very large sample sizes with over 10,000 respondents per panel.

Cost efficiencies can occur by testing some research questions in a medium-scale test, using a smaller number of participants than what we typically use in a field test, yet a larger and more diverse set of participants than who we recruit for cognitive and usability tests. Using Internet nonprobability panel pretesting, we can answer some research questions more thoroughly than in the small-scale testing, but less expensively than in the large-scale test. This generic clearance seeks to establish a medium-scale (defined as having sample sizes from 100-2000 per study), cost-efficient method of testing questions and contact strategies over the internet through a nonprobability sample.

For example, email has been identified as a possible cost-effective notification strategy for online data collection. Email has not been used extensively as a notification mode for past censuses nor other government surveys. Prior to implementing an email strategy, the Census Bureau needs to determine the best email invitation in order to maximize click-through rates. The numerous email variations would be cost prohibitive in a large-scale test. Medium-scale testing of email variations is more efficient. This generic clearance will be used to answer some fundamental questions about how to optimize email (and possibly text message) contacts.

This research program will be used by the Census Bureau and survey sponsors to test alternative contact methods, including emails and text messages (via an opt-in strategy), improve online questionnaires and procedures, reduce respondent burden, and ultimately increase the quality of data collected in the Census Bureau censuses and surveys. The clearance will be used to conduct pretesting of decennial and demographic census and survey questionnaires as well as communications and/or marketing strategies and data dissemination tools for the Census Bureau prior to fielding them. The primary method of identifying measurement problems with the questionnaire or survey procedure is split panel tests. This will encompass both methodological and subject matter research questions that can be tested on a medium-scale nonprobability panel.

This research program will also be used by the Census Bureau for remote usability testing of electronic interfaces and to perform other qualitative analysis such as respondent debriefings. Advantages of using the remote, medium-scale testing is that participants can test products at their convenience using their own equipment, as opposed to using Census Bureau supplied computers. A diverse participant pool, whether that was geographically, demographically, or economically, is another advantage. Remote usability testing would use paradata, accuracy and satisfaction scores, and written qualitative comments to determine optimal interface designs and to obtain feedback from respondents.

For the initial phase of this study, the public will be offered an opportunity to participate in this research remotely, by signing up for an online research panel. If a person opts-in, the Census Bureau will occasionally email (or text, if applicable) the person an invitation to complete a survey for one of our research projects. Invited respondents will be told the topic of the survey, and how long it will take to complete it.

If the initial phase is successful, it will be followed by extended research, which will employ cold-contact emails to validate findings from the initial phase and expand the research.

II. Method of Collection

The Internet will be the primary method of data collection. Mail or phone prenotice and/or telephone follow-up may be used in some cases.

III. Data

OMB Number: None.

Form Number: Various.

Type of Review: Regular submission.

Affected Public: Individuals or Households.

Estimated Number of Respondents: 50,000.

Estimated Time per Response: 10 minutes.

Estimated Total Burden Hours: 8,333.

Estimated Total Annual Cost: There is no cost to respondent, except for their time to complete the questionnaire.

Respondent's Obligation: Voluntary.

Authority: 13 U.S.C. 131, 141, 161, 181, 182, 193, and 301.

IV. Request for Comments

Comments are invited on: (a) Whether the proposed collection of information is necessary for the proper performance of the functions of the agency, including whether the information shall have practical utility; (b) the accuracy of the agency's estimate of the burden (including house and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 19, 2013.
Glenna Mickelson,
Management Analyst, Office of the Chief Information Officer.

[FR Doc. 2013-14982 Filed 6-21-13; 8:45 am]

BILLING CODE 3510-07-P